SECURITIES AND EXCHANGE COMMISSION

Submission for OMB Review; Comment Request

Upon Written Request, Copies Available From: Securities and Exchange Commission, Office of Filings and Information Services, Washington, DC 20549.

Extension:

Rule 57(a)—SEC File No. 270-376—OMB Control No. 3235-0428

Form U-57—SEC File No. 270-376—OMB Control No. 3235-0428.

Notice is hereby given that pursuant to the Paperwork Reduction Act of 1995 (44 U.S.C. 3501 et seq.) the Securities and Exchange Commission (“Commission”) has submitted to the Office of Management and Budget a request for extension of the previously approved collection of information discussed below.

Under rule 57(a) of the Act, Form U-57 must be used by a person filing under sections 33(a)(3)(B) and 33(c)(1) of the Act providing that U-57 is the form on which (1) a company seeking to become a “foreign utility company” may inform the Commission of that status, and (2) a registered holding company that acquires an interest in a “foreign utility company” may inform the Commission of that acquisition. The 101 annual responses together incur about 405 burden hours to comply with these requirements.

The estimate of average burden hours is made solely for the purposes of the Paperwork Reduction Act. The estimate is not derived from a comprehensive or even a representative survey or study of the costs of Commission rules and forms.

The Commission needs this information to determine if the registered holding companies and their subsidiaries (and, in certain instances, exempt holding companies) are in compliance with the Public Utility Holding Company Act of 1935. There is no requirement to keep the information confidential because it is public information. An agency may not conduct or sponsor, and a person is not required to respond to, a collection of information unless it displays a currently valid control number.

Please direct general comments regarding the above information to the following persons: (i) Desk Officer for the Securities and Exchange Commission, Office of Information and Regulatory Affairs, Office of Management and Budget, Room 10102, New Executive Office Building, Washington, DC 20503 or send an e-mail to: David_Rostker@omb.eop.gov; and (ii) R. Corey Booth, Director/Chief Information Officer, Office of Information Technology, Securities and Exchange Commission, 450 5th Street, NW., Washington, DC 20549. Comments must be submitted to OMB within 30 days of this notice.

Dated: March 15, 2004.
Margaret H. McFarland,
Deputy Secretary.

[FR Doc. 04-6264 Filed 3-19-04; 8:45 am]

BILLING CODE 8010-01-P